DEPARTMENT OF ENERGY

Federal Energy Regulatory Commission

[Docket No. PR04-6-000]

Cranberry Pipeline Corporation; Notice of Technical Conference

October 7, 2004.

Take notice that a technical conference will be held on Wednesday, October 13, 2004 at 10:30 a.m. (EST) at the Commission's Headquarters, 888 First Street, NE., Washington, DC 20426. Arrangements will be made for parties to participate in the technical conference by telephone, with a telephone number to be provided later.

The purpose of the conference is to address Cranberry Pipeline Corporation's (Cranberry) section 311 petition for rate approval filed on December 16, 2003. Cranberry should be prepared to discuss cost of service and rate design issues.

Questions about the conference and the telephone conference call arrangements should be directed to: Jerilyn Stanley, Office of the General Counsel—Markets, Tariffs and Rates, Federal Energy Regulatory Commission, 888 First Street, NE., Washington, DC 20426, (202) 502-8159, jerilyn.stanley@ferc.gov.

Magalie R. Salas,
Secretary.

[FR Doc. E4-2670 Filed 10-15-04; 8:45 am]

BILLING CODE 6717-01-P